DEPARTMENT OF TRANSPORTATION

Federal Aviation Administration

14 CFR Part 71

User Input to the Aviation Weather Technology Transfer (AWTT) Board

AGENCY: Federal Aviation Administration (FAA), Department of Transportation (DOT).

ACTION: Proposed rule; notice of public meeting.

SUMMARY: The FAA will hold an informal public meeting to seek aviation weather user input on convective weather products. Details: November 10, 2005; Orlando Orange County Convention Center, 9800 International Drive, Room N210A, Orlando, Florida 32819, 1 p.m. to 5 p.m. The objective of this meeting is to provide an opportunity for interested Government and commercial sector representatives who use Government-provided aviation weather information in operational decision-making to provide input on FAA's plans for implementing new convective weather products.

DATES: The meeting will be held at the Orlando Orange County Convention Center, 9800 International Drive, Room N210A, Orlando, Florida 32819; Times: 1 p.m. to 5 p.m. on November 10, 2005.

FOR FURTHER INFORMATION CONTACT: Debi Bacon, Air Traffic Administration, 800 Independence Ave., SW., Washington, DC 20591; telephone number (202) 385-7705; Fax: (202) 385-7701; e-mail: debi.bacon@faa.gov.

SUPPLEMENTARY INFORMATION:

History

In 1999, the FAA established an Aviation Weather Technology Transfer (AWTT) Board to manage the orderly transfer of weather capabilities and products from research and development (R&D) into operations. The Director of the National Airspace (NAS) Weather Office, Operations Planning, Air Traffic Organization chairs the AWTT Board. The board is composed of stakeholders in the Air Traffic and Aviation Safety organizations in the Federal Aviation Administration and the Office of Climate, Water and Weather Services, the Office of Science and Technology, and the National Center for Environmental Predictions (NCEP) in the National Weather Service.

The AWTT Board meets semi-annually or as needed to determine the readiness of weather R&D products for experimental use or full operational use for meteorologists or for end users. The board makes the determination based on technical and operational readiness, cost and benefits, user needs and budget considerations.

FAA has the sole responsibility and authority to make decisions intended to provide a safe, secure, and efficient U.S. national airspace system. However, it behooves FAA to not make decisions in a vacuum. Rather, FAA is seeking inputs from the user community before decisions are finalized.

Industry users are invited to participate in one-day meetings about three times per year to give specific feedback to the Government. Meetings will be focused on a specific domain (e.g. terminal, enroute) or specific weather phenomena (e.g. turbulence, convection). Meetings will include a time for users to provide input on specific weather products and aviation weather road maps and to surface issues or concerns with those products. The industry review sessions will be announced in the Federal Register and open to all interested parties.

This meeting is the industry session focused on convective weather products, roadmaps and research activities.

Meeting Procedures

(a) The meeting will be informal in nature and will be conducted by representatives of the FAA Headquarters.

(b) The meeting will be open to all persons on a space-available basis. Every effort was made to provide a meeting site with sufficient seating capacity for the expected participation. There will be neither admission fee nor other charge to attend and participate. This meeting is being held in conjunction with the NBAA Convention 2005. There is a charge to attend the NBAA convention; however, any person desiring to attend this informal meeting will be admitted by NBAA convention officials to this meeting only, at no charge.

(c) FAA personnel will conduct overview briefings on aviation weather products, aviation weather roadmaps and the status of on-going research. Research leads from the convective weather product development team will conduct an overview briefing on the status of research efforts in the convective weather domain. Questions may be asked during the presentation and FAA personnel will clarify any part of the process that is not clear.

(d) FAA personnel will lead a session intended to elicit user views on the convective weather products and any issues surrounding those products. Any person present may offer comment or feedback in the session. Comments and feedback will be captured through discussion between FAA personnel and those persons attending the meeting.

(e) FAA will not take any action items from this meeting nor make any commitments to accept specific user suggestions. An official verbatim transcript of the meeting will not be made. However, a list of the attendees and a digest of discussions during the meeting will be produced and posted on a Web site. Instructions to access the Web site will be provided to all persons attending the meeting and provided to any who desire it.

(f) Every reasonable effort will be made to hear each person's feedback consistent with a reasonable closing time for the meeting. Written feedback is also solicited and may be submitted to FAA personnel for the period November 11-December 10, 2005.

Agenda

(a) Opening Remarks.

(b) Review of AWTT weather products, roadmaps and research efforts.

(c) Convective Weather Products and Issues Session.

(d) Closing Comments.

* * * * *

Issued in Washington, DC, on October 27, 2005.
Richard J. Heuwinkel,
Manager, Aviation Weather Policy and Standards.

[FR Doc. 05-21792 Filed 11-1-05: 8:45 am]

BILLING CODE 4910-13-M